DEPARTMENT OF THE INTERIOR

National Park Service

[NPS-WASO-NAGPRA-NPS0024037; PPWOCRADN0-PCU00RP14.R50000]

Notice of Inventory Completion: Robert S. Peabody Museum of Archaeology, Andover, MA

AGENCY: National Park Service, Interior.

ACTION: Notice.

SUMMARY: The Robert S. Peabody Museum of Archaeology has completed an inventory of associated funerary objects, in consultation with the appropriate Indian tribes or Native Hawaiian organizations, and has determined that there is a cultural affiliation between the associated funerary objects and present-day Indian tribes or Native Hawaiian organizations. Lineal descendants or representatives of any Indian tribe or Native Hawaiian organization not identified in this notice that wish to request transfer of control of these associated funerary objects should submit a written request to the Robert S. Peabody Museum of Archaeology. If no additional requestors come forward, transfer of control of the associated funerary objects to the lineal descendants, Indian tribes, or Native Hawaiian organizations stated in this notice may proceed.

DATES: Lineal descendants or representatives of any Indian tribe or Native Hawaiian organization not identified in this notice that wish to request transfer of control of these associated funerary objects should submit a written request with information in support of the request to the Robert S. Peabody Museum of Archaeology at the address in this notice by October 23, 2017.

ADDRESSES: Ryan Wheeler, Robert S. Peabody Museum of Archaeology, 180 Main Street, Andover MA 01810, telephone (978) 749-4490, email rwheeler@andover.edu.

SUPPLEMENTARY INFORMATION: Notice is here given in accordance with the Native American Graves Protection and Repatriation Act (NAGPRA), 25 U.S.C. 3003, of the completion of an inventory of associated funerary objects under the control of the Robert S. Peabody Museum of Archaeology, Andover MA. The associated funerary objects were removed from the Mansion Inn site, Wayland, MA.

This notice is published as part of the National Park Service's administrative responsibilities under NAGPRA, 25 U.S.C. 3003(d)(3). The determinations in this notice are the sole responsibility of the museum, institution, or Federal agency that has control of the Native American associated funerary objects. The National Park Service is not responsible for the determinations in this notice.

Consultation

A detailed assessment of the human remains was made by the Robert S. Peabody Museum of Archaeology professional staff in consultation with representatives of the Wampanoag Repatriation Confederation, representing the Mashpee Wampanoag Tribe (previously listed as the Mashpee Wampanoag Indian Tribal Council, Inc.) and the Wampanoag Tribe of Gay Head (Aquinnah) as well as the Assonet Band of the Wampanoag Nation and the Nipmuc Nation (non-federally recognized Indian groups).

History and Description of the Remains

In June 1959, 188 associated funerary objects were removed from the Mansion Inn site (19-MD-210) in Middlesex County, MA. At that time, human remains and funerary objects were removed from the site by a number of individuals when construction activity at the site of the old Mansion Inn revealed the presence of archeological features. The site was looted by local children, their parents, and friends, assisted by local collectors. Many kept what they had excavated, though some human remains and funerary objects were preserved in museum collections. Frederick Johnson, curator of the Robert S. Peabody Foundation for Archaeology (now the Robert S. Peabody Museum of Archaeology) undertook salvage excavations to recover some information about the site. Human remains and funerary objects removed by Johnson, Curtis Chapin, and others were ultimately preserved in the Robert S. Peabody Museum of Archaeology and the Massachusetts Archaeological Society/Robbins Museum. The 188 associated funerary objects are 3 adze fragments, 1 axe fragment, 61 bifaces and biface fragments, 25 flakes/debitage, 1 hammerstone, 2 charred nut hulls and charcoal, 22 pebbles, and 73 stone fragments.

Excavations, studies, and one radiocarbon assay on organic material date the site from approximately 2111 to 1697 B.C. This is consistent with the Watertown Phase and subsequent Coburn Group of the Late Archais Susquehanna Tradition. Multiple lines of evidence guided by tribal consultations, including geographic location, maps, oral tradition, linguistic, and archeological data, demonstrate a shared group identity between the human remains and associated funerary objects in this notice and the Wampanoag Repatriation Confederation, representing the Mashpee Wampanoag Indian Tribe (previously listed as the Mashpee Wampanoag Indian Tribal Council, Inc.) and the Wampanoag Tribe of Gay Head (Aquinnah) as well as the Assonet Band of the Wampanoag Nation and the Nipmuc Nation (non-federally recognized Indian groups).

Determinations Made by the Robert S. Peabody Museum of Archaeology

Officials of the Robert S. Peabody Museum of Archaeology have determined that:

• Pursuant to 25 U.S.C. 3001(3)(A), the 188 objects described in this notice are reasonably believed to have been placed with or near individual human remains at the time of death or later as part of the death rite or ceremony.

• Pursuant to 25 U.S.C. 3001(2), there is a relationship of shared group identity that can be reasonably traced between the Native American associated funerary objects and the Wampanoag Repatriation Confederation, representing the Mashpee Wampanoag Indian Tribe (previously listed as the Mashpee Wampanoag Indian Tribal Council, Inc.) and the Wampanoag Tribe of Gay Head (Aquinnah). Additionally, a cultural relationship is determined to exist between the human remains and the Assonet Band of the Wampanoag Nation and Nipmuc Nation, which are non-federally recognized Indian groups.

Additional Requestors and Disposition

Lineal descendants or representatives of any Indian tribe or Native Hawaiian organization not identified in this notice that wish to request transfer of control of these associated funerary objects should submit a written request with information in support of the request to Ryan Wheeler, Robert S. Peabody Museum of Archaeology, 180 Main Street, Andover MA 01810, telephone (978) 749-4490, email rwheeler@andover.edu, by October 23, 2017. After that date, if no additional requestors have come forward, transfer of control of the associated funerary objects to the Wampanoag Repatriation Confederation, representing the Mashpee Wampanoag Indian Tribe (previously listed as the Mashpee Wampanoag Indian Tribal Council, Inc.) and the Wampanoag Tribe of Gay Head (Aquinnah), and, if joined to one or more of the culturally affiliated tribes, the Assonet Band of the Wampanoag Nation and Nipmuc Nation, which are non-federally recognized Indian groups, may proceed.

The Robert S. Peabody Museum of Archaeology is responsible for notifying the Wampanoag Repatriation Confederation, representing the Mashpee Wampanoag Indian Tribe (previously listed as the Mashpee Wampanoag Indian Tribal Council, Inc.) and the Wampanoag Tribe of Gay Head (Aquinnah) as well as the Assonet Band of the Wampanoag Nation and the Nipmuc Nation (non-federally recognized Indian groups) that this notice has been published.

Dated: August 21, 2017
Melanie O'Brien,
Manager, National NAGPRA Program.

[FR Doc. 2017-20298 Filed 9-21-17; 8:45 am]

BILLING CODE 4312-52-P